DEPARTMENT OF HOMELAND SECURITY

Federal Emergency Management Agency

44 CFR Part 67

[Docket ID FEMA-2010-0003; Internal Agency Docket No. FEMA-B-1170]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before April 7, 2011.

ADDRESSES: The corresponding preliminary Flood Insurance Rate Map (FIRM) for the proposed BFEs for each community is available for inspection at the community's map repository. The respective addresses are listed in the table below.

You may submit comments, identified by Docket No. FEMA-B-1170, to Luis Rodriguez, Chief, Engineering Management Branch, Federal Insurance and Mitigation Administration, Federal Emergency Management Agency, 500 C Street, SW., Washington, DC 20472, (202) 646-4064, or (e-mail) luis.rodriguez1@dhs.gov.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Redwood County, Minnesota, and Incorporated Areas
Cottonwood River | Approximately 0.93 mile downstream of U.S. Route 71 | None | +1,042 | City of Sanborn, Unincorporated Areas of Redwood County
| Approximately 2.1 miles upstream of County Road 57 | None | +1,105
Crow Creek | Approximately 900 feet downstream of Minnesota Prairie Railroad | None | +840 | City of Redwood Falls, Unincorporated Areas of Redwood County.
| Approximately 0.45 mile upstream of County Highway 1 | None | +1,009
Minnesota River | Approximately 2.54 miles downstream of County Highway 11 | +823 | +825 | City of Redwood Falls, Unincorporated Areas of Redwood County.
| Approximately 1.09 miles upstream of County Highway 7 | +874 | +877
Ramsey Creek | At the Redwood River confluence | None | +884 | City of Redwood Falls, Unincorporated Areas of Redwood County.
| Approximately 245 feet upstream of Kenwood Avenue | None | +1,016
Redwood River | At the Minnesota River confluence | +842 | +843 | City of Redwood Falls, City of Seaforth, City of Vesta, Unincorporated Areas of Redwood County.
| Approximately 0.88 mile upstream of County Road 51 | None | +1,067
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Redwood Falls
Maps are available for inspection at 333 South Washington Street, Redwood Falls, MN 56283.
City of Sanborn
Maps are available for inspection at 171 North Main Street, Sanborn, MN 56083.
City of Seaforth
Maps are available for inspection at 205 Oak Street, Seaforth, MN 56287.
City of Vesta
Maps are available for inspection at 150 Front Street West, Vesta, MN 56292.
Unincorporated Areas of Redwood County
Maps are available for inspection at 403 South Mill Street, Redwood Falls, MN 56283.
Clark County, Missouri, and Incorporated Areas
Big Branch (backwater effects from Mississippi River) | From the Honey Creek confluence to approximately 0.5 mile downstream of State Highway H | None | +497 | Unincorporated Areas of Clark County.
Buck Run (overflow effects from Mississippi River) | At the Lewis County boundary | +496 | +495 | Unincorporated Areas of Clark County.
| Approximately 0.6 mile downstream of Avenue of the Saints | None | +496
Doe Run (backwater effects from Mississippi River) | From the Lewis County boundary to approximately 1,290 feet downstream of Avenue of the Saints | None | +496 | Unincorporated Areas of Clark County.
Mississippi River | Approximately 2.5 miles downstream of the Fox River confluence | +496 | +495 | City of Alexandria, Unincorporated Areas of Clark County.
| At the Des Moines River confluence | +500 | +499
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Alexandria
Maps are available for inspection at the Community Center, 109 Market Street, Alexandria, MO 63430.
Unincorporated Areas of Clark County
Maps are available for inspection at the Clark County Courthouse, 111 East Court Street, Suite 4, Kahoka, MO 63445.
Lewis County, Missouri, and Incorporated Areas
Artesian Branch (backwater effects from Mississippi River) | From approximately 1,000 feet downstream of the Artesian Branch Tributary 1 confluence to approximately 270 feet downstream of U.S. Route 61 | None | +493 | Unincorporated Areas of Lewis County.
Artesian Branch Tributary 1 (backwater water effects from Mississippi River) | From the Artesian Branch confluence to approximately 240 feet downstream of U.S. Route 61 | None | +493 | Unincorporated Areas of Lewis County.
Doe Run (overflow effects from Mississippi River) | Approximately 475 feet downstream of the Doe Run Tributary 4 confluence | None | +494 | Unincorporated Areas of Lewis County.
| Approximately 1.0 mile upstream of County Road 494 | None | +495
Doe Run Tributary 4 (backwater effects from Mississippi River) | From the Doe Run confluence to approximately 360 feet downstream of U.S. Route 61 | None | +494 | Unincorporated Areas of Lewis County.
Durgens Creek (backwater effects from Mississippi River) | From the Mississippi River confluence to approximately 0.4 mile downstream of U.S. Route 61 | None | +488 | Unincorporated Areas of Lewis County.
Mississippi River | Approximately 3.0 miles downstream of the Durgens Creek confluence | None | +487 | City of Canton, City of La Grange, Unincorporated Areas of Lewis County.
| At the Clark County boundary | None | +495
Oyster Branch (backwater effects from Mississippi River) | From the Mississippi River confluence to approximately 630 feet downstream of U.S. Route 61 Business | None | +489 | Unincorporated Areas of Lewis County.
Wyaconda River (backwater effects from Mississippi River) | From the Mississippi River confluence to approximately 410 feet upstream of U.S. Route 61 Business | None | +489 | City of La Grange, Unincorporated Areas of Lewis County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Canton
Maps are available for inspection at City Hall, 106 North 5th Street, Canton, MO 63435.
City of La Grange
Maps are available for inspection at City Hall, 118 South Main Street, La Grange, MO 63448.
Unincorporated Areas of Lewis County
Maps are available for inspection at the Lewis County Courthouse, 100 East Lafayette Street, Monticello, MO 63457.
Madison County, Missouri, and Incorporated Areas
Tollar Branch | Approximately 775 feet downstream of Marvin Avenue | +738 | +740 | Village of Cobalt.
| Approximately 1,310 feet upstream of Mine LaMotte Street | None | +788
Village Creek | At the upstream side of Catherine Mine Road | +708 | +707 | City of Junction City.
| Approximately 550 feet upstream of Catherine Mine Road | None | +710
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Junction City
Maps are available for inspection at 1 Court Square, Fredericktown, MO 63645.
Village of Cobalt
Maps are available for inspection at 1 Court Square, Fredericktown, MO 63645.
Taylor County, Texas, and Incorporated Areas
Elm Creek | Just west of the intersection of Impact Drive and Clinton Street | None | +1,668 | Town of Impact, Unincorporated Areas of Taylor County.
| Approximately 717 feet northeast of the intersection of Impact Drive and FM Road 2404 | None | +1,673
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Town of Impact
Maps are available for inspection at 555 Walnut Street, Abilene, TX 79602.
Unincorporated Areas of Taylor County
Maps are available for inspection at 400 Oak Street, Suite 107, Abilene, TX 79602.
Snohomish County, Washington, and Incorporated Areas
Haskel Slough | Approximately 0.7 mile downstream of State Highway 203 | None | +56 | Unincorporated Areas of Snohomish County.
| Approximately 1.4 miles upstream of State Highway 203 | None | +67
North Fork Skykomish River | Approximately 308 feet upstream of the South Fork Skykomish River confluence | +465 | +461 | Town of Index, Unincorporated Areas of Snohomish County.
| Approximately 2.7 miles upstream of 5th Street | +675 | +673
Riley Slough | Approximately 1.2 miles upstream of the Snoqualmie River confluence | None | +49 | Unincorporated Areas of Snohomish County.
| Approximately 2.2 miles upstream of State Highway 203 | None | +72
Skykomish River | Approximately 4.6 miles downstream of Mann Road | +91 | +90 | City of Gold Bar, City of Sultan, Unincorporated Areas of Snohomish County.
| Approximately 216 feet downstream of Burlington Northern Santa Fe Railway | +359 | +351
Snohomish River | Approximately 528 feet downstream of the Marshland Diversion Channel confluence (Storage Area #2) | +27 | +26 | City of Monroe, City of Snohomish, Unincorporated Areas of Snohomish County.
| Approximately 0.5 mile downstream of State Highway 9 (Storage Area #4) | +28 | +29
Sultan River | At the upstream side of State Highway 2 | +118 | +117 | City of Sultan, Unincorporated Areas of Snohomish County.
| Approximately 3.2 miles upstream of State Highway 2 | +180 | +183
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Gold Bar
Maps are available for inspection at 107 5th Street, Gold Bar, WA 98251.
City of Monroe
Maps are available for inspection at 806 West Main Street, Monroe, WA 98272.
City of Snohomish
Maps are available for inspection at 116 Union Avenue, Snohomish, WA 98290.
City of Sultan
Maps are available for inspection at 319 Main Street, Sultan, WA 98294.
Town of Index
Maps are available for inspection at 511 Avenue A, Index, WA 98256.
Unincorporated Areas of Snohomish County
Maps are available for inspection at 3000 Rockefeller Avenue, Everett, WA 98201.

(Catalog of Federal Domestic Assistance No. 97.022, “Flood Insurance.”)

Dated: December 27, 2010.
Sandra K. Knight,
Deputy Federal Insurance and Mitigation Administrator, Mitigation, Department of Homeland Security, Federal Emergency Management Agency.

[FR Doc. 2011-132 Filed 1-6-11; 8:45 am]

BILLING CODE 9110-12-P